ENVIRONMENTAL PROTECTION AGENCY

[EPA-HQ-OPPT-2022-0773; FRL-11730-01-OMS]

Agency Information Collection Activities; Submission to the Office of Management and Budget for Review and Approval; Comment Request; Pollution Prevention (P2) Grantee Data Collection in Standard Electronic Format (New)

AGENCY: Environmental Protection Agency (EPA).

ACTION: Notice.

SUMMARY: The Environmental Protection Agency (EPA) has submitted the following information collection request (ICR), Pollution Prevention (P2) Grantee Data Collection in Standard, (EPA ICR Number 2728.01 and OMB Control Number 2070-NEW) to the Office of Management and Budget (OMB) for review and approval in accordance with the Paperwork Reduction Act. This is a request for approval of a new collection. Public comments were previously requested via the Federal Register on February 15, 2023, during a 60-day comment period. This notice allows for an additional 30 days for public comments.

DATES: Comments must be received on or before March 7, 2024.

ADDRESSES: Submit your comments, referencing Docket ID Number: EPA-HQ-OPPT-2022-0773 to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Environmental Protection Agency, 1200 Pennsylvania Ave. NW, Washington, DC 20460-0001; telephone number: (202) 566-1204; email address: sleasman.katherine@epa.gov.

SUPPLEMENTARY INFORMATION: This is a request for approval of a new collection. An agency may not conduct or sponsor and a person is not required to respond to a collection of information unless it displays a currently valid OMB control number.

Public comments were previously requested via the Federal Register on February 15, 2023, during a 60-day comment period (88 FR 9879). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR presents EPA's estimates for the burden and costs associated with the information collection activities related to pollution prevention grant programs and the collection of activity and results data from the grantees via a standard electronic format. P2 means reducing or eliminating pollutants from entering any waste stream or otherwise being released into the environment prior to recycling, treatment, or disposal. EPA's P2 program operates three grant programs and is developing two new grant programs. The three existing programs are: The Pollution Prevention State Tribal Assistance Grants (P2 STAG); the Bipartisan Infrastructure Law Pollution Prevention Grants (P2 BIL); and the Source Reduction Assistance (SRA) Grants. The P2 STAG and SRA grants are funded through recurring appropriations and require grantees to provide matching funds. The P2 BIL grants, which are funded through the 2021 Infrastructure Investment and Jobs Act (IIJA), also referred to as the Bipartisan Infrastructure Law (BIL), are also STAG but do not require grantees to provide matching funds. The two new grant programs under development are: The Pollution Prevention Grant: Environmental Justice Through Safer/Sustainable Products (P2 EJ Products); and the Pollution Prevention Grant: Environmental Justice in Communities (P2 EJ Facilities). The P2 EJ Products and P2 EJ Facilities grants will also be supported by BIL funding and, as such, do not require grantee matching funds.

Form Numbers: 9600-047 and 9600-048.

Respondents/affected entities: Entities potentially affected by this ICR may include entities identified by the North American Industrial Classification System (NAICS) code 99200, i.e., State Governmental entities.

Respondent's obligation to respond: Required to obtain or retain a benefit.

Total estimated number of potential respondents: 275 (total).

Frequency of response: On occasion.

Total estimated burden: 5,123 hours (per year). Burden is defined at 5 CFR 1320.3(b).

Total estimated annual costs: $431,778 (per year), includes no annualized capital investment or maintenance and operational costs.

Courtney Kerwin,
Director, Regulatory Support Division.

[FR Doc. 2024-02398 Filed 2-5-24; 8:45 am]

BILLING CODE 6560-50-P